Proclamation 10957 of July 17, 2025

Regulatory Relief for Certain Stationary Sources To Promote American Chemical Manufacturing Security

By the President of the United States of America

A Proclamation

1. The United States relies on a strong chemical manufacturing sector to support industries like energy, national defense, agriculture, and health care. These facilities produce essential inputs for critical infrastructure, advanced manufacturing, medical sterilization, semiconductors, and national defense systems. Maintaining a robust domestic chemical industry is vital to safeguarding the supply chains that underpin our economy and to reducing the Nation's dependence on foreign control over materials critical to national resilience. As adversaries expand influence over key inputs, continued domestic production is essential not only to economic resilience but also to military readiness, public health, and national preparedness.

2. On May 16, 2024, the Environmental Protection Agency published a final rule titled New Source Performance Standards for the Synthetic Organic Chemical Manufacturing Industry and National Emission Standards for Hazardous Air Pollutants for the Synthetic Organic Chemical Manufacturing Industry and Group I & II Polymers and Resins Industry, 89 FR 42932 (HON Rule). The HON Rule imposes new emissions-control requirements on certain chemical manufacturing facilities, some of which were promulgated pursuant to section 112 of the Clean Air Act, 42 U.S.C. 7412.

3. The HON Rule imposes substantial burdens on chemical manufacturers already operating under stringent regulations. Many of the testing and monitoring requirements outlined in the HON Rule rely on technologies that are not practically available, not demonstrated at the necessary scale, or cannot be implemented safely or consistently under real-world conditions. For many facilities, the timeline for compliance as set forth at 89 FR 42953-42955 would require shutdowns or massive capital investments before any proven pathway to compliance exists. The HON Rule imposes requirements that assume uniform technological availability across facilities, despite significant variation in site conditions, permitting realities, and equipment configurations. A disruption of this capacity would weaken key supply chains, increase dependence on foreign producers, and impair our ability to respond effectively in a time of crisis. These consequences would ripple across sectors vital to America's growing industrial strength and emergency readiness.

NOW, THEREFORE, I, DONALD J. TRUMP, President of the United States of America, by the authority vested in me by the Constitution and the laws of the United States, including section 112(i)(4) of the Clean Air Act, 42 U.S.C. 7412(i)(4), do hereby proclaim that certain stationary sources subject to the HON Rule, as identified in Annex I of this proclamation, are exempt from compliance with those aspects of the HON Rule that were promulgated under section 112 of the Clean Air Act, 42 U.S.C. 7412 for a period of 2 years beyond the HON Rule's relevant compliance dates (Exemption). This Exemption applies to all compliance deadlines established under the HON Rule applicable to the stationary sources listed in Annex I, with each such deadline extended by 2 years from the date originally required for such deadline. The effect of this Exemption is that, during each such 2-year period, these stationary sources will be subject to the emissions and compliance obligations that they are currently subject to under the applicable standard as that standard existed prior to the HON Rule. In support of this Exemption, I hereby make the following determinations:

a. The technology to implement the HON Rule is not available. Such technology does not exist in a commercially viable form sufficient to allow implementation of and compliance with the HON Rule by the compliance dates in the HON Rule.

b. It is in the national security interests of the United States to issue this Exemption for the reasons stated in paragraphs 1 and 3 of this proclamation.

IN WITNESS WHEREOF, I have hereunto set my hand this seventeenth day of July, in the year of our Lord two thousand twenty-five, and of the Independence of the United States of America the two hundred and fiftieth.

Billing code 3395-F4-P

[FR Doc. 2025-13890

Filed 7-22-25; 8:45 am]

Billing code 3395-F4-C